DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Railtown 1897 State Historic Park

[Waiver Petition Docket Number FRA-2010-0092]

The Railtown 1897 State Historic Park (Railtown), an excursion train operating in Jamestown, California, seeks a waiver of compliance from the Safety Glazing Standards of 49 CFR 223.11 Requirements for existing locomotives. Specifically, Railtown has petitioned FRA for a waiver for four diesel locomotives: Former U.S. Navy locomotives 613 and 612, built by Alco in 1953; former U.S. Army locomotive 1265, built by Baldwin/Whitcomb in 1952; and former U.S. Army locomotive 1638, built by General Electric in 1952.

Railtown operates weekends only from April through March on three miles of track in a lightly settled area with a fifteen mph speed restriction. The locomotives are primarily used in yard switching service and on rare occasions provide back-up service for Railtown's historic steam locomotives.

Additionally, Railtown states the combined annual operation of their diesel locomotives is less than 200 hours per year, and that in 26 years of operation as a state historic park, they have not sustained any incidents of breakage on their locomotives. Railtown estimates glazing costs to be in excess of $20,000.00, and believes it is not economically justified to replace the glass in light of the ages of the locomotives, low risk of vandalism and the extremely low hours of operation.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0092) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on September 7, 2010.
Robert C. Lauby,
Deputy Associate Administrator for Regulatory and Legislative Operations.

[FR Doc. 2010-22728 Filed 9-10-10; 8:45 am]

BILLING CODE 4910-06-P